FEDERAL COMMUNICATIONS COMMISSION

Notice of Public Information Collection(s) Being Submitted to OMB for Review and Approval

August 15, 2005.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 30, 2005. If you anticipate that you will be submitting comments, but find it difficult to do so within the period of time allowed by this notice, you should advise the contact listed below as soon as possible.

ADDRESSES: You may submit your Paperwork Reduction Act (PRA) comments by e-mail or U.S. postal mail. To submit your comments by e-mail send them to PRA@fcc.gov. To submit your comments by U.S. mail, mark them to the attention of Cathy Williams, Federal Communications Commission, Room 1-C823, 445 12th Street, SW., Washington, DC 20554 and Kristy L. LaLonde, Office of Management and Budget (OMB), Room 10236 NEOB, Washington, DC 20503, (202) 395-3087 or via the Internet at Kristy_L._LaLonde@omb.eop.gov.

FOR FURTHER INFORMATION CONTACT: For additional information about the information collection(s) send an email to PRA@fcc.gov or contact Cathy Williams at (202) 418-2918. If you would like to obtain a copy of the information collection, you may do so by visiting the FCC PRA Web page at: http://www.fcc.gov/omd/pra.

SUPPLEMENTARY INFORMATION: OMB Control Number: 3060-0174.

Title: Section 73.1212, Sponsorship Identification; List Retention; Related Requirements.

Form Number: Not applicable.

Type of Review: Extension of a currently approved collection.

Respondents: Individuals or household; business or other for-profit entities.

Number of Respondents: 17,910.

Estimated Time per Response: 4 seconds-6 minutes.

Frequency of Response: Recordkeeping requirement; on occasion reporting requirement; third party disclosure requirement.

Total Annual Burden: 108,051 hours.

Total Annual Cost: None.

Privacy Impact Assessment: Not required at this time.

Needs and Uses: 47 CFR 73.1212 requires a broadcast station to identify the sponsor of programming for which consideration is provided. For programming advertising commercial products or services, generally mention of the product's name or service constitutes sponsorship identification. For television political advertisements for candidates seeking public office, the sponsor shall be identified with letters equal to or greater than four percent of the vertical height of the television screen. In addition, when an entity rather than an individual sponsors broadcast programming of a political or controversial nature, the licensee must retain a list of the executive officers, board of directors, or executive committee, etc., of the organization paying for the programming. Sponsorship announcements are waived when broadcasting “want ads” are sponsored by individuals, but licensees are required to maintain a list showing the name, address and telephone number of each such advertiser. These lists shall be made available for public inspection to allow the public to know by whom they are being persuaded.

Federal Communications Commission.
Marlene H. Dortch,
Secretary.

[FR Doc. 05-17044 Filed 8-30-05; 8:45 am]

BILLING CODE 6712-01-P